DEPARTMENT OF THE INTERIOR

National Park Service

[NPS-PWR-KAHO-26895; PPPWKAHOS0, PPMPSPD1Z.YM0000]

Na Hoa Pili O Kaloko-Honokohau National Historical Park Advisory Commission Notice of Public Meeting

AGENCY: National Park Service, Interior.

ACTION: Meeting notice.

SUMMARY: In accordance with the Federal Advisory Committee Act of 1972, the National Park Service (NPS) is hereby giving notice that the Na Hoa Pili O Kaloko-Honokohau National Historical Park Advisory Commission (Commission) will meet as indicated below.

DATES: The Commission will meet on Friday, December 7, 2018, from 9:30 a.m. to 2:30 p.m., with a public comment period at 1:00 p.m. (Hawaii Standard Time).

ADDRESSES: The meeting will be held at the Kaloko-Honokohau National Historical Park Kaloko Picnic area. The Kaloko-Honokohau National Historical Park is located in Kailua Kona, Hawaii 96740.

FOR FURTHER INFORMATION CONTACT: Jeff Zimpfer, Environmental Protection Specialist, Kaloko-Honokohau National Historical Park, 73-4786 Kanalani Street, #14, Kailua Kona, Hawaii 96740, telephone (808) 329-6881, ext. 1500, or email jeff_zimpfer@nps.gov.

SUPPLEMENTARY INFORMATION: The park was established by section 505(a) of Public Law 95-625, November 10, 1978, and the Commission was established by section 505(f) of that same law. The Commission was re-established by Title VII, Subtitle E, section 7401 of Public Law 111-11, the Omnibus Public Land Management Act of 2009, March 30, 2009. The Commission's current termination date is December 31, 2018.

The purpose of the Commission is to advise the Director of the National Park Service with respect to the historical, archeological, cultural, and interpretive programs of the park. The Commission is to afford particular emphasis to the quality of traditional native Hawaiian cultural practices demonstrated in the park.

Agenda: The Commission meeting will discuss the following:

1. Approval of Agenda

2. Chairman's Report

3. Superintendent's Report

4. Subcommittee Reports

5. Commission Recommendations

a. In absence of the Commission, what cultural center activities should the NPS and the community focus on in the short-term, medium term, and long-term to carry out the mission of the Park?

b. In the absence of the Commission, how should the NPS engage with the community for insights, feedback, and suggestions to ensure the park's mission is fulfilled as detailed in the park's enabling legislation?

6. Public Comments

All meetings are open to the public. Interested persons may make oral/written presentations to the Commission or file written statements. Such requests should be made to the Superintendent at least seven days prior to the meetings.

Public Disclosure of Information: Before including your address, telephone number, email address, or other personal identifying information in your comments, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2018-25540 Filed 11-21-18; 8:45 am]

BILLING CODE 4312-52-P